DEPARTMENT OF THE INTERIOR

Office of Natural Resources Revenue

[Docket No. ONRR-2011-0008; DS63644000 DRT000000.CH7000 234D1113RT; OMB Control Number 1012-0006]

Agency Information Collection Activities; Suspensions Pending Appeal and Bonding

AGENCY: Office of Natural Resources Revenue, Interior.

ACTION: Notice of information collection; request for comment.

SUMMARY: In accordance with the Paperwork Reduction Act of 1995 (“PRA”), the Office of Natural Resources Revenue (“ONRR”) is proposing to renew an information collection. Through this Information Collection Request renewal (“ICR”), ONRR seeks renewed authority to collect information related to the paperwork requirements necessary to post a bond or other surety, or to demonstrate financial solvency to suspend compliance with an order or to stay the assessment or accrual of civil penalties.

DATES: Submit written comments on or before July 31, 2023.

ADDRESSES: All comment submissions must (1) reference “OMB Control Number 1012-0006” in the subject line; (2) be sent to ONRR before the close of the comment period listed under DATES; and (3) be sent using the following method:

Electronically via the Federal eRulemaking Portal: Please visit https://www.regulations.gov. In the Search Box, enter the Docket ID Number for this ICR renewal (“ONRR-2011-0008”) and click “search” to view the publications associated with the docket folder. Locate the document with an open comment period and click the “Comment Now!” button. Follow the prompts to submit your comment prior to the close of the comment period.

Docket: To access the docket folder to view the ICR Federal Register publications, go to https://www.regulations.gov and search “ONRR-2011-0008” to view renewal notices recently published in the Federal Register, publications associated with prior renewals, and applicable public comments received for this ICR. ONRR will make the comments submitted in response to this notice available for public viewing at https://www.regulations.gov.

OMB ICR Data: OMB also maintains information on ICR renewals and approvals. You may access this information at https://www.reginfo.gov/public/do/PRASearch. Please use the following instructions: Under the “OMB Control Number” heading enter “1012-0006” and click the “Search” button located at the bottom of the page. To view the ICR renewal or OMB approval status, click on the latest entry (based on the most recent date). On the “View ICR—OIRA Conclusion” page, check the box next to “All” to display all available ICR information provided by OMB.

FOR FURTHER INFORMATION CONTACT: To request additional information about this ICR, please contact Kimberly Werner, Financial Services, ONRR, by telephone at (303) 231-3801 or email to Kimberly.Werner@onrr.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: Pursuant to the PRA, 44 U.S.C. 3501, et seq., and 5 CFR 1320.5, all information collections, as defined in 5 CFR 1320.3, require approval by OMB. ONRR may not conduct or sponsor, and you are not required to respond to, a collection of information unless it displays a currently valid OMB control number.

As part of ONRR's continuing effort to reduce paperwork and respondent burdens, ONRR is inviting the public and other Federal agencies to comment on new, proposed, revised, and continuing collections of information in accordance with the PRA and 5 CFR 1320.8(d)(1). This helps ONRR to assess the impact of its information collection requirements and minimize the public's reporting burden. It also helps the public understand ONRR's information collection requirements and provide the requested data in the desired format.

ONRR is especially interested in public comments addressing the following:

(1) Whether the collection of information is necessary for the proper performance of the functions of the agency, including whether the information will have practical utility;

(2) The accuracy of ONRR's estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

On January 13, 2023, the Bureau of Indian Affairs (“BIA”) published a proposed rule (88 FR 2430) to amend its regulations to allow ONRR to issue certain types of orders relating to the Osage Nation mineral estate in Osage County, Oklahoma (“Osage Mineral Estate”). The proposed rule would allow a person adversely affected by an ONRR order concerning the Osage Mineral Estate to post a surety instrument to suspend compliance with the order during an appeal (see 88 FR 2498-99). On January 19, 2023, ONRR published a 60-day notice (88 FR 3430) proposing to both renew this ICR and expand it to include ONRR's additional surety information collections for Osage Mineral Estate orders if the BIA's proposed amendments become final.

Because the BIA has not published a final rule as of this date, ONRR is not seeking in this 30-day notice to expand this ICR to include Osage Mineral Estate information collections. Accordingly, this 30-day notice only seeks renewed authority to collect information related to the surety and financial solvency paperwork requirements under 30 CFR part 1243. ONRR may later seek to expand this ICR to include surety information collections for Osage Mineral Estate orders if the BIA adopts its proposed amendments.

ONRR did not receive any comments in response to the Federal Register 60-day notice available at www.regulations.gov. However, ONRR reached out to members of industry to solicit comments and received four comments in response to this information collection request renewal. Three of those comments agreed with the content of this ICR. One commenter disagreed with the amount of time that ONRR uses to calculate the burden hours. ONRR acknowledged and provided responses to all commenters accordingly.

Comments that you submit in response to this 30-day notice are a matter of public record. ONRR will include or summarize each comment in its request to OMB to approve this ICR. Before including your address, phone number, email address, or other personal identifying information in your comment, you should be aware that your entire comment—including your personal identifying information—may be made publicly available at any time. While you can ask ONRR in your comment to withhold your personal identifying information from public review, ONRR cannot guarantee that it will be able to do so.

Abstract: (a) General Information: ONRR issues orders and assesses civil penalties in performing mineral revenue management responsibilities for the Secretary of the Interior. See U.S. Department of the Interior Departmental Manual, 112 DM 34.1 (Sept. 9, 2020). A person who timely appeals an ONRR order may post a bond or other surety instrument pursuant to 30 CFR part 1243, or, for Federal leases, demonstrate financial solvency pursuant to 30 CFR part 1243, subpart C, to suspend its compliance with the order during the appeal. See 30 CFR 1243.1. Similarly, if an administrative law judge determines that a stay is warranted, the recipient of a civil penalty notice who timely requests a hearing may post a surety instrument or demonstrate financial solvency under these same subparts to stay the assessment or accrual of penalties pending a hearing on the record and decision by the administrative law judge. See 30 CFR 1241.11.

(b) Information Collections: ONRR accepts the following surety types: Form ONRR-4435, Administrative Appeal Bond; Form ONRR-4436, Letter of Credit; Form ONRR-4437, Assignment of Certificate of Deposit; Self-bonding; and U.S. Treasury Securities. See 30 CFR 1210.157. Instructions for submitting these surety instruments or self-bonding are located at https://www.onrr.gov/document/SuretyInst.pdf. This ICR covers the burden hours associated with submitting surety instruments and self-bonding pursuant to 30 CFR part 1243 as follows:

(1) Form ONRR-4435, Administrative Appeal Bond: A person using this form of surety supplies various information on the form ONRR-4435, such as its contact information, surety company name and address, and surety amount. The bond must be issued by a qualified surety company approved by the U.S. Department of the Treasury (see Department of the Treasury Circular No. 570, revised periodically in the Federal Register). ONRR maintains the bond in a secure facility.

(2) Form ONRR-4436, Letter of Credit: A person using this form of surety must complete the form ONRR-4436, with no modifications. The person supplies various information on the form, such as bank name and address, bank ABA number, and effective date. ONRR maintains the letter of credit in a secure facility. The person submitting the letter of credit is responsible for verifying that the bank provides a current Fitch rating to ONRR.

(3) Form ONRR-4437, Assignment of Certificate of Deposit: A person seeking to use a Certificate of Deposit (CD) as surety must submit a written request to ONRR to do so. A person using this form of surety supplies various information on the form ONRR-4437, such as the CD number, CD amount, and bank name. ONRR will accept only a book-entry CD that explicitly assigns the CD to ONRR's Director.

(4) U.S. Treasury Securities: A person seeking to use a U.S. Treasury Security (“TS”) as surety must submit a written request to ONRR to do so. The TS must be a U.S. Treasury note or bond with maturity equal to or greater than one year. The TS must equal 120 percent of the appealed amount plus 1 year of estimated interest (necessary to protect ONRR against interest rate fluctuations). ONRR only accepts a book-entry TS.

(5) Self-bonding: For Federal oil and gas leases only (not Indian leases), 30 CFR 1243.201 provides that no surety instrument is required when a person periodically demonstrates, to the satisfaction of ONRR, that it is financially solvent or otherwise able to pay the obligation. ONRR requires the person to submit a consolidated balance sheet, subject to annual audit. In some cases, ONRR also requires copies of the most recent tax returns (up to three years).

In addition, the person must annually submit financial statements, subject to audit, to support its net worth. If the person does not have a consolidated balance sheet documenting its net worth, or if it does not meet the $300 million net worth requirement, ONRR will select a business information or credit reporting service to provide information concerning its financial solvency. ONRR charges a $50 fee each time it reviews data from a business information or credit reporting service. The fee covers ONRR's cost to determine financial solvency.

Title of Collection: Suspensions Pending Appeal and Bonding.

OMB Control Number: 1012-0006.

Form Number: Forms ONRR-4435, ONRR-4436, and ONRR-4437.

Type of Review: Extension of a currently approved collection.

Respondents/Affected Public: Businesses.

Total Estimated Number of Annual Respondents: 105 Federal or Indian appellants.

Total Estimated Number of Annual Responses: 105.

Estimated Completion Time per Response: 2 hours.

Total Estimated Number of Annual Burden Hours: 210.

Respondent's Obligation: Mandatory.

Frequency of Collection: Annual and on occasion.

Total Estimated Annual Non-hour Burden Cost: There are no additional recordkeeping costs associated with this information collection. However, ONRR estimates 5 appellants per year will pay a $50 fee to obtain credit data from a business information or credit reporting service, which is a total “non-hour” cost burden of $250 per year (5 appellants per year $50 = $250).

An agency may not conduct or sponsor, and a person is not required to respond to, a collection of information unless it displays a currently valid OMB control number.

The authority for this action is the PRA (44 U.S.C. 3501 et seq.).

Howard Cantor,
Director, Office of Natural Resources Revenue.

[FR Doc. 2023-13867 Filed 6-28-23; 8:45 am]

BILLING CODE 4335-30-P